NUCLEAR REGULATORY COMMISSION

[Docket Nos. 52-022-COL & 52-023-COL]

Progress Energy Carolinas, Inc.; ASLBP No. 08-868-04-COL-BD01; Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board (Board) is being established to preside over the following proceeding:

Progress Energy Carolinas, Inc.

(Shearon Harris Nuclear Power Plant, Units 2 and 3)

This proceeding concerns a Petition to Intervene and Request for Hearing submitted by the North Carolina Waste Awareness and Reduction Network, and a request to participate in any hearing submitted by the North Carolina Utilities Commission and the South Carolina Office of Regulatory Staff, in response to a June 4, 2008 Notice of Hearing and Opportunity To Petition for Leave To Intervene on a Combined License Application for the Shearon Harris Nuclear Power Plant, Units 2 and 3, to be located in Wake County, North Carolina (73 FR 31,899). A supplemental corrected notice was also published in the Federal Register at 73 FR 33,119 (June 11, 2008).

The Board is comprised of the following administrative judges:

Dr. Paul B. Abramson, Chairman, Atomic Safety and Licensing Board Panel, U.S. Nuclear Regulatory Commission, Washington, DC 20555-0001;

Dr. Michael F. Kennedy, Atomic Safety and Licensing Board Panel, U.S. Nuclear Regulatory Commission, Washington, DC 20555-0001;

Dr. William E. Kastenberg, Atomic Safety and Licensing Board Panel, U.S. Nuclear Regulatory Commission, Washington, DC 20555-0001.

All correspondence, documents, and other materials shall be filed in accordance with the NRC E-Filing rule, which the NRC promulgated in August 2007 (72 FR 49,139).

Issued at Rockville, Maryland, this 14th day of August 2008.
E. Roy Hawkens,
Chief Administrative Judge, Atomic Safety and Licensing Board Panel.

[FR Doc. E8-19380 Filed 8-20-08; 8:45 am]

BILLING CODE 7590-01-P